DEPARTMENT OF TRANSPORTATION

Federal Aviation Administration

RTCA Special Committee 195; Flight Information Services Communications (FISC)

Pursuant to section 10(a)(2) of the Federal Advisory Committee Act (Pub. L. 92-463, 5 U.S.C., Appendix 2), notice is hereby given for Special Committee (SC)-195 meeting to be held September 26-28, 2000, starting at 8:30 a.m. each day. The meeting will be held at RTCA, Inc., 1140 Connecticut Avenue, NW., suite 1020, Washington, DC, 20036.

The agenda will include: June 6: Plenary convenes: (1) Welcome and Introductory Remarks; (2) Agenda Overview; (3) Working Group (WG)-1, Aircraft Cockpit Weather Display; Plenary reconvenes: (4) Review of Previous Meeting Minutes; (5) Report from WG-1 on Activities; (6) Review Action Items; September 27: (7) Review of FIS-B Minimum Aviation System Performance Standards (MASPS) Section 4.0, Procedures for Performance Requirement Verification, Development; (8) Work on FIS-B MASPS; September 28: (9) Work on FIS-B MASPS continues; (10) Review Issues (Action Items); (11) Review FIS-B MASPS Document Comment Form Approval Process; (12) Date and Location of Next Meeting; (13) Other Business; (14) Closing.

Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on August 30, 2000.
Janice L. Peters,
Designated Official.

[FR Doc. 00-23181 Filed 9-8-00; 8:45 am]

BILLING CODE 4910-13-M